ENVIRONMENTAL PROTECTION AGENCY

40 CFR Part 300

[EPA-R04-SFUND-2007-0719; FRL-8501-8]

National Oil and Hazardous Substances Pollution Contingency Plan; National Priorities List

AGENCY: Environmental Protection Agency.

ACTION: Direct final notice of deletion of the Standard Auto Bumper Site from the National Priorities List; correction.

SUMMARY: This document corrects the direct final notice of deletion of the Standard Auto Bumper Site from the National Priorities List, published in the Federal Register of August 27, 2007. This correction clarifies that all Institutional Controls (ICs) are in place and recorded at the site.

DATES: Effective December 4, 2007.

FOR FURTHER INFORMATION CONTACT: Michael Taylor, Remedial Project Manager, Superfund Division, U.S. Environmental Protection Agency, Region 4, 61 Forsyth Street, SW., Atlanta, Georgia 30303-8960, Phone: (404) 562-8762, Electronic Mail: taylor.michael@epa.gov

Correction

In the direct final notice of deletion FRL-8458-7, beginning on page 48942 in the issue of August 27, 2007, make the following correction in the Basis for Site Deletion section, under Response Actions. On page 48945 in the second column, the first paragraph is corrected to read as follows:

All institutional controls (ICs) are in place and recorded at the site. All appropriate Fund-financed response under CERCLA has been implemented. No further response action is necessary.

Dated: November 13, 2007.
J.I. Palmer, Jr.,
Regional Administrator, Region 4.

[FR Doc. E7-23499 Filed 12-3-07; 8:45 am]

BILLING CODE 6560-50-P